DEPARTMENT OF HOMELAND SECURITY

Federal Emergency Management Agency

[Docket ID FEMA-2010-0055]

Recovery Policy, RP 9523.6, Mutual Aid Agreements for Public Assistance and Fire Management Assistance

AGENCY: Federal Emergency Management Agency, DHS.

ACTION: Notice of availability; request for comments.

SUMMARY: The Federal Emergency Management Agency (FEMA) is accepting comments on Recovery Policy, RP 9523.6, Mutual Aid Agreements for Public Assistance and Fire Management Assistance. This is an existing policy that is scheduled for review to ensure that Recovery Directorate policies are up to date, incorporate lessons learned and are consistent with current laws and regulations. The purpose of this proposed policy is to define the eligible costs incurred through mutual aid agreements and remove the unintended restriction on permanent work. The previous policy limited reimbursement for mutual aid costs to emergency work.

DATES: Comments must be received by October 12, 2010.

ADDRESSES: Comments must be identified by docket ID FEMA-2010-0055 and may be submitted by one of the following methods:

Federal eRulmaking Portal: http://www.regulations.gov. Follow the instructions for submitting comments. Please note that this proposed policy is not a rulemaking and the Federal Rulemaking Portal is being utilized only as a mechanism for receiving comments.

Mail: Docket Manager, Office of Chief Counsel, Federal Emergency Management Agency, Room 835, 500 C Street, SW., Washington, DC 20472-3100.

FOR FURTHER INFORMATION CONTACT: Yolanda Gaston, Public Assistance Division, Federal Emergency Management Agency, 500 C Street, SW., Washington, DC 20472-3100, yolandaL.gaston@dhs.gov, (202) 646-4543.

SUPPLEMENTARY INFORMATION

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESESSES section above. Please submit your comments and any supporting material by only one means to avoid the receipt and review of duplicate submissions.

Docket: The proposed policy is available in docket ID FEMA-2010-0055. For access to the docket to read background documents or comments received, go to the Federal eRulemaking Portal at http://www.regulations.gov and search for the docket ID. Submitted comments may also be inspected at FEMA, Office of Chief Counsel, Room 835, 500 C Street, SW., Washington, DC 20472-3100.

II. Background

The purpose of this policy is to describe the criteria the Federal Emergency Management Agency (FEMA) will use to determine eligibility of costs under the Public Assistance (PA) Program incurred through mutual aid agreements between applicants and other entities after major disasters and emergencies declared by the President pursuant to the Robert T. Stafford Disaster Relief and Emergency Assistance Act.

This policy was previously issued on August 13, 2007. The previous version indicated that mutual aid costs for permanent work was not eligible for Public Assistance funding. The significant change to the proposed policy is the allowance of mutual aid for permanent work. The primary reason of the limitation of mutual aid costs to emergency work is the assumption that mutual aid is provided for assistance with emergency work only. The intent of the policy was not to make emergency power restoration through permanent repairs performed through mutual aid ineligible for Public Assistance funding. Further there is no restriction in FEMA regulations on mutual aid assistance for permanent work.

FEMA seeks comment on the proposed policy, which is available online at http://www.regulations.gov in docket ID FEMA-2010-0055. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov.

Authority: 42 U.S.C. 5121-5207; 44 CFR part 206.

Dated: August 31, 2010.
David J. Kaufman,
Director, Office of Policy and Program Analysis, Federal Emergency Management Agency.

[FR Doc. 2010-22585 Filed 9-9-10; 8:45 am]

BILLING CODE 9111-23-P